DEPARTMENT OF JUSTICE

Notice of Lodging of Consent Decree Between the United States of America and Burlington Northern and Santa Fe Railway Company, et al. Under the Comprehensive Environmental Response, Compensation, and Liability Act

Under 28 CFR 50.7, notice is hereby given that on April 9, 2004, a proposed Consent Decree (“Consent Decree”) in the case of United States of America v. Burlington Northern and Sante Fe Railway Company et al., Civil Action No. 04-0319-CV-NKL (W.D. MO.), has been lodged with the United States District Court for the Western District of Missouri. the Consent Decree was lodged contemporaneously with the filing of the complaint.

The Complaint seeks performance of work and the recovery of costs incurred in connection with the response action taken at the Armour Road Superfund Site in North Kansas City, Missouri. The Consent Decree requires that a substantial removal action will be performed by two of the Settling Defendants. Four “cash-out” Settling Defendants are required under this Consent Decree to pay $530,000 into an escrow account which will be used by the performing defendants to conduct and finance the removal action. In exchange, the United States will provide a covenant not to sue and contribution protection to all six of the Defendants.

The Department of Justice will receive for a period of thirty (30) days from the date of this publication comments relating to the Consent Decree. Comments should be addressed to the Assistant Attorney General, Environment and Natural Resources Division, P.O. Box 7611, U.S. Department of Justice, Washington, DC 20044-7611, and should refer to United States of America v. Burlington Northern and Santa Fe Railway Company et al., D.J. Ref. 90-11-3-08035.

The Consent Decree may be examined at the Office of the United States Attorney, Western District of Missouri, 400 East Ninth St., Room 5510, Kansas City, MO, 64106, and at U.S. EPA Region 7, 901 North Fifth St., Kansas City, Kansas, 66101. During the public comment period, the Consent Decree may be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $13.50 (25 cents per page reproduction cost, without attachments) payable to the United States Treasury for payment.

Robert Maher,
Assistant Section Chief, Environmental Enforcement Section, Environment and Natural Resources Division.

[FR Doc. 04-9094 Filed 4-21-04; 8:45 am]

BILLING CODE 4410-15-M